DEPARTMENT OF TRANSPORTATION

Federal Aviation Administration

Agency Information Collection Activity Under OMB Review

AGENCY: Federal Aviation Administration (FAA), DOT.

ACTION: Notice.

SUMMARY: In compliance with the Paperwork Reduction Act of 1995 (44 U.S.C. 3501 et seq.), this notice announces that the Information Collection Request (ICR) abstracted below has been forwarded to the Office of Management and Budget (OMB) for extension of the currently approved collection. The ICR describes the nature of the information collection and the expected burden. The Federal Register Notice with a 60-day comment period soliciting comments on the following collections of information was published on October 2, 2000 (FR 65, page 58838).

DATES: Comments must be submitted on or before January 22, 2001. A comment to OMB is most effective if OMB receives it within 30 days of publication.

FOR FURTHER INFORMATION CONTACT: Judy Street on (202) 267-9895.

SUPPLEMENTARY INFORMATION:

Federal Aviation Administration (FAA)

Title: Special Federal Aviation Regulation No. 71.

Type of Request: Extension of a currently approved collection.

OMB Control Number: 2120-0620.

Form(s): N/A.

Affected Public: Air tour operators in Hawaii.

Abstract: Special Federal Aviation Regulation (SFAR) No. 71 applies to air tour operators in Hawaii. The SFAR requires Part 121 and 135 air tour operators to verbally brief the passengers on safety, particularly related to overwater operations before each air tour flight.

Estimated Annual Burden Hours: 6,667 burden hours annually.

ADDRESSES: Send comments to the Office of Information and Regulatory Affairs, Office of Management and Budget, 725—17th Street, NW, Washington, DC 20503, Attention FAA Desk Officer.

Comments are Invited on: Whether the proposed Collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Issued in Washington, DC, on December 15, 2000.
Steve Hopkins,
Manager, Standards and Information Division.

[FR Doc. 00-32736 Filed 12-21-00; 8:45am]

BILLING CODE 4910-13-M